DEPARTMENT OF COMMERCE

International Trade Administration

[Docket No. 260127-0036]

RIN 0625-XC059

Procedures for Submissions by Importers of Medium- and Heavy-Duty Vehicles Qualifying for Preferential Tariff Treatment Under the USMCA To Determine U.S. Content

AGENCY: International Trade Administration, U.S. Department of Commerce.

ACTION: Procedures for submission of documentation related to medium- and heavy-duty vehicles tariffs.

SUMMARY: In Presidential Proclamation 10984 of October 17, 2025, “Adjusting Imports of Medium- and Heavy-Duty Vehicles, Medium- and Heavy-Duty Vehicle Parts, and Buses Into the United States” (Proclamation 10984), the President imposed additional tariffs on imports of specified medium- and heavy-duty vehicles (MHDVs), medium- and heavy-duty vehicles parts (MHDVPs), and buses to eliminate the threat to national security posed by such imports. That Proclamation also provided that for MHDVs that qualify for preferential tariff treatment under the United States-Mexico-Canada Agreement (USMCA), importers of such MHDVs may submit documentation to the Secretary of Commerce (Secretary) identifying the amount of U.S. content in each model imported into the United States. This notice announces procedures for submission and review of such documentation by the Department of Commerce (Department).

DATES: Importers may begin submitting documentation as described below on or after February 2, 2026.

ADDRESSES: Applications must be submitted electronically to: mail to: MHDV232USMCAContent@trade.gov.

FOR FURTHER INFORMATION CONTACT: Emily Davis, Director for Public Affairs, International Trade Administration, U.S. Department of Commerce, 202-482-3809, Emily.Davis@trade.gov.

SUPPLEMENTARY INFORMATION:

I. Background

On October 17, 2025, the President issued Proclamation 10984, “Adjusting Imports of Medium- and Heavy-Duty Vehicles, Medium- and Heavy-Duty Vehicle Parts, and Buses Into the United States” (90 FR 48451) (the Proclamation), finding that imports of medium- and heavy-duty vehicles (MHDVs), medium- and heavy-duty vehicle parts (MHDVPs), and buses threaten to impair the national security of the United States and determining that it is necessary and appropriate to impose specified tariffs to adjust imports of MHDVs, MHDVPs, and buses so that such imports will not threaten to impair national security pursuant to section 232 of the Trade Expansion Act of 1962, as amended (19 U.S.C. 1862). The Proclamation imposed a 25 percent tariff on certain imports of MHDVs and MHDVPs, effective November 1, 2025, and a 10 percent tariff on certain imports of buses, effective November 1, 2025. However, the Proclamation also provided that for MHDVs that qualify for preferential tariff treatment under the USMCA, importers of such MHDVs may submit documentation to the Secretary identifying the amount of United States content in each model imported into the United States. The Proclamation specified that “United States content” refers to the value of MHDVs attributable to United States-based activity supporting domestic production, as determined by the Secretary. The Secretary has determined that, for purposes of this process, U.S. content should be understood as U.S. production and U.S. production-related activity directly supporting the manufacture of the imported vehicle and in a manner consistent with the definition of “production” in Article 4.1 of USMCA (available at: https://ustr.gov/trade-agreements/free-trade-agreements/united-states-mexico-canada-agreement/agreement-between). The Proclamation authorized the Secretary to approve imports of such MHDVs to be eligible to apply the additional tariff exclusively to the value of the non-U.S. content of the MHDVs and provided that the non-U.S. content of the MHDVs is to be calculated by subtracting the value of the U.S. content in a MHDV from the total value of the MHDV.

II. Eligibility

Only MHDVs imported from Mexico and Canada that qualify for preferential tariff treatment under the USMCA may be found to be eligible to apply the additional tariff exclusively to the value of the non-U.S. content of the MHDV. MHDVs imported from non-USMCA countries and MHDVs from Canada and Mexico that do not qualify for preferential tariff treatment under the USMCA may not be found to be eligible.

III. Opportunity To Submit Documentation

Importers of MHDVs qualifying for preferential treatment under the USMCA seeking preferential tariff treatment on the U.S. content of their MHDVs may submit documentation, on a model basis, identifying the type and value of U.S. content attributable to each model imported into the United States.

Each submission should include documentation certified by an importer's Chief Financial Officer, General Counsel, or an equivalent-level of senior officer that identifies the following:

1. The total declared customs value of an MHDV in the model at the time of importation based on 19 U.S.C 1401a. If the customs value varies within the model, the importer may provide an average value consistent with an averaging methodology set forth in Article 5 of the Appendix to Annex 4-B, “Provisions Related to the Product-Specific Rules of Origin for Automotive Goods,” of Chapter 4 of the USMCA (“Automotive Appendix”) (available at: https://ustr.gov/trade-agreements/free-trade-agreements/united-states-mexico-canada-agreement/agreement-between).

2. The total value of U.S. content for an MHDV in that model, as determined by calculating the portion of the vehicle's value, based on 19 U.S.C. 1401a, that is attributable to United States-based activity supporting domestic production, as determined by the Secretary. The Secretary has determined that, for purposes of this process, “U.S. content” should be understood as U.S. production and U.S. production-related activities that directly support the manufacture of the imported vehicle and in a manner consistent with the definition of “production” in Article 4.1 of USMCA (available at: https://ustr.gov/trade-agreements/free-trade-agreements/united-states-mexico-canada-agreement/agreement-between). If the U.S. content varies within a model, the importer may provide an average value consistent with an averaging methodology set forth in the USMCA Automotive Appendix Article 5.

3. Total value of non-U.S. content of an MHDV for that model, calculated by subtracting the value of the U.S. content for an MHDV in the model from the total value of the MHDV. If the value varies within the model, the importer may provide an average consistent with an averaging methodology set forth in the USMCA Automotive Appendix Article 5.

4. MHDV production location(s) and country of final assembly. MHDV production locations may include more than one country.

5. Certification of eligibility for USMCA preference (i.e., the signed origin certification that supports the import meeting the rules of origin requirements as well as the approved producer-submitted certifications, jointly reviewed/approved by U.S. Customs and Border Protection and the Department of Labor, for meeting North American steel and aluminum content, and North American labor value content requirements) for the model as submitted to U.S. Customs and Border Protection (CBP), including whether the model is subject to an approved Alternative Staging Regime outlined in the USMCA Automotive Appendix Article 8 of Chapter 4 of the USMCA (available at: https://ustr.gov/trade-agreements/free-trade-agreements/united-states-mexico-canada-agreement/agreement-between).

6. The importer name, importer of record number, manufacturer name, manufacturer facility, country of origin, and model information for every model requested in the submission. If retroactive treatment is requested, the importer should provide entry numbers for previously imported medium- and heavy-duty vehicles.

IV. Review Process

The Department will review each submission for completeness and compliance. The Department may request supplemental documentation or clarification. Upon verification by the Department that a submission is consistent with this notice and upon a determination of the value of the U.S. content and non-U.S. content for the requested model, the Department will inform the importer and CBP of that determination and of the value of the non-U.S. content for each model. The Commerce Department will provide CBP with a list of importers and MHDVs authorized by Commerce, including importer name, importer of record number, manufacturer name, manufacturer facility, country of origin, and model of each authorized MHDV.

The additional tariff will apply exclusively to the value of the non-U.S. content for the relevant model. The Secretary may retroactively extend this treatment to qualifying models for vehicles imported on or after November 1, 2025, at his discretion, and provide CBP with the entry numbers of the previously imported MHDVs subject to any retroactive treatment. If a change in sourcing or production results in a decrease in U.S. content relevant to the eligibility determination, the importer must promptly inform the Department and request a new eligibility determination by providing the documentation described above. If a change in sourcing or production results in an increase in U.S. content, the importer may inform the Department and request a new eligibility determination by providing a new submission containing the information required by section III. Regardless, eligibility determinations issued in 2026 are only valid for vehicles imported in 2025 or 2026, and importers seeking eligibility for a model imported in 2027 must submit new documentation no later than October 1, 2026 to ensure timely processing. Eligibility determinations issued for imports after December 31, 2026 shall only be valid for one calendar year, and importers seeking eligibility for a model imported after December 31, 2026 must submit documentation supporting eligibility no later than the October 1 before the start of the calendar year of importation to ensure timely processing. Importers of a new model may apply at any time for a U.S. content eligibility determination, which shall remain valid only until the end of the calendar year in which the importer's application is made.

V. Consequences for Misreporting

If CBP determines that the declared U.S. content is overstated or inconsistent with a U.S. content figure approved by the Secretary, the 25 percent tariff will apply retroactively (from November 1, 2025, to the date of the inaccurate overstatement) and prospectively (from the date of the inaccurate overstatement to the date the importer corrects the overstatement, as verified by CBP) to the full value of all medium- and heavy-duty vehicles of the same model imported by the same importer, as provided for in Proclamation 10984. This does not apply to or otherwise affect any other applicable fees or penalties.

VI. Confidential Business Information

Submissions containing confidential business information must be clearly marked as such.

VII. No Effect on USMCA Preferential Status

This process does not affect or alter the determination of whether a vehicle qualifies for USMCA preferential tariff treatment.

VIII. Authority

This notice is issued pursuant to the authority delegated to the Secretary by Proclamation 10984 consistent with section 232 of the Trade Expansion Act of 1962, as amended (19 U.S.C. 1862).

IX. Paperwork Reduction Act

In accordance with section 3507(d) of the Paperwork Reduction Act of 1995 (44 U.S.C. 3501 et seq.), and the Office of Management and Budget (OMB) implementing regulations at 5 CFR 1320.13, this collection is covered under OMB control number 0625-0143, Domestic and International Client Export Services and Customized Forms Renewal. With this notice, ITA is establishing a process for importers of MHDVs that qualify for USMCA duty preference to submit documentation supporting a claim that certain parts of the MHDVs are U.S. content. In the notice, ITA estimated the burden to the public for this notification will average 800 hours (20 respondents * 20 hours per response * 2 expected responses per year), including the time for reviewing instructions, searching existing data sources, gathering the data needed, and completing and reviewing the collection of information. The estimated total annual cost to the Federal Government is $37,000. The public may access this ITA request, including all supporting materials, at www.reginfo.gov/public/do/PRAMain and inserting the OMB control number or the name of the collection. Please send written comments to Emily Davis, Director for Public Affairs, 202-482-3809, Emily.Davis@trade.gov. A comment to OMB is best assured of having its full effect if OMB receives it within 60 days of publication of this notice. All written comments submitted in response to this notice will be included in the record and will be made available to the public. Please be advised that the substance of the comments and the identity of the individuals or entities submitting the comments will be subject to public disclosure. Written comments will be publicly available on the internet via https://www.regulations.gov.

We are soliciting comments from the public (as well as affected agencies) concerning our information collection and recordkeeping requirements. These comments will help us:

(1) Evaluate whether the information collection is necessary for the proper performance of our agency's functions, including whether the information will have practical utility.

(2) Evaluate the accuracy of our estimate of the burden of the information collection, including the validity of the methodology and assumptions used.

(3) Enhance the quality, utility, and clarity of the information to be collected; and

(4) Minimize the burden of the information collection on those who are to respond (such as through the use of appropriate automated, electronic, mechanical, or other technological collection techniques or other forms of information technology, e.g., permitting electronic submission of responses).

Estimate of burden: Public reporting burden for this collection of information is estimated to average 20 hours per response.

Respondents: Private Sector.

Estimated annual number of respondents: 20.

Estimated annual number of responses per respondent: 2.

Estimated annual number of responses: 40.

Estimated total annual burden on respondents: 800.

(Due to averaging, the total annual burden hours may not equal the product of the annual number of responses multiplied by the reporting burden per response.)

Copies of this information collection can be obtained from Emily Davis, Director for Public Affairs, 202-482-3809, Emily.Davis@trade.gov.

Notwithstanding any other provision of law, no person is required to respond to, nor is subject to a penalty for failure to comply with, a collection of information, subject to the requirements of the Paperwork Reduction Act of 1995 (44 U.S.C. 3501 et seq.) (PRA), unless that collection of information displays a currently valid OMB Control Number.

William Kimmitt,
Under Secretary for International Trade, United States Department of Commerce.

[FR Doc. 2026-02049 Filed 1-30-26; 8:45 am]

BILLING CODE 3510-DR-P